DEPARTMENT OF COMMERCE

National Oceanic and Atmospheric Administration

RIN 0648-XH033

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, June 4, 2019 through Thursday, June 6, 2019. For agenda details, see SUPPLEMENTARY INFORMATION.

ADDRESSES:

Meeting address: The meeting will be held at the Yotel New York, 570 Tenth Ave (at W 42nd), New York, NY 10036, telephone: (646) 449-7700.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Tuesday, June 4, 2019

Atlantic Surfclam and Ocean Quahog 2020 Specifications Review

Review Advisory Panel, SSC, and staff recommendations for 2020 specifications and recommend any changes if necessary.

Atlantic Surfclam and Ocean Quahog Catch Share Program Review

Review public comments received, approve program review and submit to NOAA Fisheries, and review recommendations from the Oversight Team and discuss next steps.

Atlantic Surfclam and Ocean Quahog Excessive Shares

Review and approve Excessive Shares Public Hearing Document.

Atlantic Surfclam Research for Great South Channel Habitat Management Area

Update on progress to date.

Unmanaged Species Landings Update

Review commercial landings of unmanaged species and Mid-Atlantic Council ecosystem component species.

SSC Overfishing Limit Coefficient of Variation Guidelines

Review and approve OFL CV guidance document.

NMFS Northeast Regional Strategic Plan

Wednesday, June 5, 2019

Mackerel, Squid, and Butterfish 2020 Specifications

Review Advisory Panel, SSC and/or staff recommendations for 2020 specifications, including butterfish and river herring/shad caps; review the 2019 River Herring/Shad cap and the current mackerel closures and consider any actions for in-season adjustments or other modifications.

Illex Working Group Update

Review Working Group progress.

Ricks E Savage Award

Illex Permitting and Mackerel, Squid, and Butterfish Fishery Management Plan Goals Amendment

Review scoping comments and approve scope of alternatives for further development.

Overview of NEFSC Fishery Management and Research Division

2020-24 Strategic Plan

Review stakeholder survey results, Advisory Panel feedback, and public meeting comments.

Thursday, June 6, 2019

Atlantic Large Whale Take Reduction Team Report

Business Session

Committee Reports (SSC); Executive Director's Report (upcoming HMS actions); Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 6, 2019.
Tracey L. Thompson,
Acting Deputy Director, Office of Sustainable Fisheries, National Marine Fisheries Service.

[FR Doc. 2019-09605 Filed 5-8-19; 8:45 am]

BILLING CODE 3510-22-P